COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds to the Procurement List a service to be furnished by nonprofit agencies employing persons who are blind or have other severe disabilities, and deletes from the Procurement List a product and services previously furnished by such agencies.

DATES: Effective Date: October 14, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Addition

On June 22, 2007, the Committee for Purchase From People Who Are Blind or Severely Disabled published notice (72 FR 34433) of proposed additions to the Procurement List.

After consideration of the material presented to it concerning capability of qualified nonprofit agencies to provide the service and impact of the addition on the current or most recent contractors, the Committee has determined that the service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Vehicle Washing Service, General Services Administration, Fleet Management Division, Region 2, Puerto Rico & Virgin Islands.

NPA: The Corporate Source, Inc., New York, NY.

Contracting Activity: General Services Administration, Property Management Center—Manhattan, New York.

Deletions

On July 13 and July 20, 2007, the Committee for Purchase From People Who Are Blind or Severely Disabled published notice (72 FR 38561; 39786) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Product

Tube, Mailing and Filing

NSN: 8110-00-969-5406—Tube, Mailing and Filing.

NPA: MacDonald Training Center, Inc., Tampa, FL.

Contracting Activity: General Services Administration, Office Supplies & Paper Products Acquisition Ctr, New York, NY.

Services

Service Type/Location: Janitorial/Custodial, U.S. Federal Building, 111 West Huron St., Buffalo, NY.

NPA: Phoenix Frontier, Inc., Buffalo, NY.

Contracting Activity: General Services Administration, Public Buildings Service, New York, NY.

Service Type/Location: Commissary Shelf Stocking, Custodial & Warehousing, Marine Corps Base, Twenty-Nine Palms, CA.

NPA: PRIDE Industries, Inc., Roseville, CA.

Contracting Activity: Defense Commissary Agency, Fort Lee, VA.

Kimberly M. Zeich,
Director, Program Operations.

[FR Doc. E7-18176 Filed 9-13-07; 8:45 am]

BILLING CODE 6353-01-P